NUCLEAR REGULATORY COMMISSION

[Docket No. 40-8968-ML]

In the Matter of: Hydro Resources, Inc. P.O. Box 15910, Rio Rancho, NM 87174; Notice of Appointment of Adjudicatory Employees

COMMISSIONERS:

Richard A. Meserve, Chairman

Greta J. Dicus

Nils J. Diaz

Edward McGaffigan, Jr.

Jeffrey S. Merrifield

Pursuant to 10 CFR 2.4, notice is hereby given that Messrs. William Von Till and John Lusher, Commission employees of the Office of Nuclear Material Safety and Safeguards, have been appointed as Commission adjudicatory employees within the meaning of section 2.4. Mr. Von Till will advise the Commission regarding issues related to the pending petition for review of LBP-99-30. Mr. Lusher will advise the Commission regarding issues related to the pending petition for review of LBP-99-19. Until such time as a final decision is issued in this matter, interested persons outside the agency and agency employees performing investigative or litigating functions in this proceeding are required to observe the restrictions of 10 CFR 2.780 and 2.781 in their communications with Messrs. Von Till and Lusher.

It is so ordered.

Dated at Rockville, Maryland, this 7th day of February, 2000.
For the Commission.
Annette Vietti-Cook,
Secretary of the Commission.

[FR Doc. 00-3191 Filed 2-10-00; 8:45 am]

BILLING CODE 7590-01-P